FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans# | Acquiring | Acquired | Entities
Transactions Granted Early Termination—05/17/2004
20040774 | BioMarin Pharmaceutical Inc | Medicis Pharmaceutical Corporation | Ascent Pediatrics, Inc.
20040809 | IDEX Corporation | Scivex, Inc | Scivex, Inc.
20040843 | Convergys Corporation | Alan L. Summerlin | Encore Receivable Management, Inc.
20040857 | Green Equity Investors IV, L.P | Hollywood Entertainment Corporation | Hollywood Entertainment Corporation.
20040862 | Black Hills Corporation | Xcel Energy Inc | Cheyenne Light, Fuel & Power Company.
20040865 | STB Beauty, Inc | MD Beauty, Inc | MD Beauty, Inc.
Transactions Granted Early Termination—05/18/2004
20040845 | GTCR Fund VIII, L.P | Honeywell International Inc | Honeywell International Inc.
20040868 | Goense Bounds & Partners A, L.P | ITG Holdings LLC | EMESS Design Group LLC.
20040870 | Helen of Troy Limited | WKI Holding Company, Inc | World Kitchen (GHC) LLC, World Kitchen Inc.
Transactions Granted Early Termination—05/19/2004
20040854 | Eaton Corporation | Invensys plc | Powerware Group Inc.
20040864 | Sonoco Products Company | CorrFlex Graphics, LLC | CorrFlex Graphics, LLC.
Transactions Granted Early Termination—05/20/2004
20040810 | Medlmmune, Inc | Wyeth | Wyeth.
20040850 | Centrica Plc | FPL Group, Inc | Bastrop Energy Partners L.P.
20040851 | FPL Group, Inc | El Paso Corporation | Bastrop Energy Partners, L.P.
Transactions Granted Early Termination—05/24/2004
20040858 | R2 Investments, LDC | i2 Technologies, Inc | i2 Technologies, Inc.
20040866 | V.F. Corporation | Vans, Inc | Vans, Inc.
20040873 | BMC Software, Inc | Marimba, Inc | Marimba, Inc.
20040877 | The Wine Group LLC | Golden State Vintners, Inc | Golden State Vintners, Inc.
20040885 | Onex Partners LP | Res-Care, Inc | Res-Care, Inc.
20040886 | Brooklyn Sports, LLC | GW New Jersey Sports Partnership II, LLC | New Jersey Basketball, LLC.
20040888 | TPG Partners IV, L.P | JLL Partners Fund III, L.P | IASIS Healthcare Corporation.
20040892 | U.S. Bancorp | Mitsubishi Tokyo Financial Group, Inc | Union Bank of California.
20040893 | Zhone Technologies, Inc | Sorrento Networks Corporation | Sorrento Networks Corporation.
20040897 | Reebok International Ltd | The Hockey Company Holdings Inc | The Hockey Company Holdings Inc.
Transactions Granted Early Termination—05/25/2004
20040798 | Sempra Energy | American Electric Power Company, Inc | AEP Texas Central Company.
20040799 | Carlyle/Riverstone TAC Investment Partnership II, L.P | American Electric Power Company, Inc | AEP Texas Central Company.
20040818 | Lyondell Chemical Company | Millennium Chemicals, Inc | Millennium Chemicals, Inc.
20040867 | Castle Harlan Partners IV, L.P | Oak Hill Capital Partners, L.P | Caribbean Restaurants Holdings, Inc.
20040875 | Input/Output, Inc | GX Technology Corporation | GX Technology Corporation.
20040878 | Ripplewood Partners II, L.P | Akzo Nobel N.V | Akzo Nobel Functional Chemicals LLC.
20040880 | NKT Holding A/S | The Estate After Incentive A/S | ALTO International A/S.
20040890 | John C. Malone, c/o Liberty Media Corporation | Liberty Media Corporation | Liberty Media Corporation.
20040901 | Capital Z Financial Services Fund II, L.P | Ingram Industries Inc | Permanent General Assurance Corporation of Ohio, Permanent General Companies, Inc.
Transactions Granted Early Termination—05/28/2004
20040756 | CVS Corporation | J.C. Penney Company, Inc | Eckerd Corporation, Eckerd Corporation of Florida, Inc. Eckerd Fleet, Inc., E.T.B., Inc., Genovese Drug Stores, Inc., Genplus Managed Care, Inc., JEC Facilities Funding II, Inc., JEC Funding, Inc., TDI Managed Care Services, Inc., Thrift Drug, Inc.
20040838 | David H. Murdock | Wood Holdings, Inc | Wood Holdings, Inc.
Transactions Granted Early Termination—06/01/2004
20040871 | Macquarie Bank Limited | Executive Air Support, Inc | Executive Air Support, Inc.
20040874 | LGB Pike Trust | John Charles Simpson | Red Simpson, Inc.
20040876 | VCA Antech, Inc | National PetCare Centers, Inc | National PetCare Centers, Inc.
20040891 | Superior Plus Income Fund | The Winroc Corporation | The Winroc Corporation.
20040900 | Kenneth R. Thomson | Archipelago Holdings, Inc | Archipelago Holdings, Inc.
20040903 | Marathon Oil Corporation | Ashland Inc | Ashland, Inc., Marathon Ashland Petroleum LLC.
20040914 | American Coal Holdings, LLC | RAG Aktiengesellschaft | RAG American Coal Holding, Inc.
20040926 | FFS Holdings, Inc | Hillenbrand Industries, Inc | Forethought Federal Savings Bank, Forethought Financial Services, Inc., Forethought Life Assurance Company, Forethought Life Insurance Company.
20040931 | Providence Equity Partners IV L.P | The DIRECTV Group, Inc | PanAmSat Corporation.
20040934 | Fenway Partners Capital Fund II, L.P | RK Holdings and Leasing, Inc | RK Holdings and Leasing, Inc.
20040937 | KKR Millennium Fund L.P | The DIRECTV Group, Inc | PanAmSat Corporation.
Transactions Granted Early Termination—06/03/2004
20040936 | Thomson S.A | The DIRECTV Group, Inc | Hughes Network Systems, Inc.
Transactions Granted Early Termination—06/04/2004
20040837 | Itron, Inc | Schlumberger Limited | Schlumberger Electricity, Inc., Waisin Schlumberger Electricity Measurement Corporation.
20040908 | Siemens Aktiengesellschaft | Veolia Environment S.A | USF Holdings Inc.
20040918 | Genstar Capital Partners III, L.P | Woods Equipment Company | Woods Equipment Company.
20040920 | CCG Investments BVI, L.P | NxTrend Technology, Inc | NxTrend Technology, Inc.

FOR FURTHER INFORMATION CONTACT: Sandra M. Peay, Contact Representative, or Renee Hallman, Case Management Assistant: Federal Trade Commission, Premerger Notification Office, Bureau of Competition, Room H-303, Washington, DC 20580, (202) 326-3100.

By Direction of the Commission.
Donald S. Clark,
Secretary.

[FR Doc. 04-14134 Filed 6-22-04; 8:45 am]

BILLING CODE 6750-01-M